DEPARTMENT OF THE TREASURY

Office of Community Adjustment and Investment Programs, Proposed Renewal of Information Collection; Comment Request

ACTION: Notice and request for comments.

SUMMARY: The Department of the Treasury, both as Chair of the inter-agency committee (the “Finance Committee”) established by Executive Order No. 12916, dated May 13, 1994, which administers the United States Community Adjustment and Investment Program, and as part of its continuing effort to reduce paperwork and respondent burden, invites the general public and other Federal agencies to take this opportunity to comment on a continuing Federally-sponsored information collection, as required by the Paperwork Reduction Act of 1995, Public Law 104-13 (44 U.S.C. 3506(c)(2)(A)). Currently, the Office of Community Adjustment and Investment Programs within the Department of the Treasury is soliciting comment concerning its renewal of a Federally sponsored information collection by the North American Development Bank (“NADBank”) titled, “Community Adjustment and Investment Program Grant Program Grant Agreement.”

DATES: Written comments should be received on or before April 20, 2001, to be assured of consideration.

ADDRESSES: Direct all written comments to Jean Whaley, Director, Office of Community Adjustment and Investment Programs, Department of the Treasury, Room 5017, 1500 Pennsylvania Ave., NW., Washington, DC 20220 (Tel.: 202/622-0741).

FOR FURTHER INFORMATION CONTACT: You can request additional information from or a copy of the collection from Jean Whaley, Director, Office of Community Adjustment and Investment Programs, Department of the Treasury, Room 5017, 1500 Pennsylvania Ave., NW., Washington, DC 20220 (Tel.: 202/622-0741).

SUPPLEMENTARY INFORMATION: Title: Community Adjustment and Investment Program Grant Program Grant Agreement.

OMB Number: 1505-0178.

Abstract: The Department of the Treasury, as Chair of the Finance Committee, is sponsoring the NADBank's collection of information under the terms of a Grant Agreement between NADBank and awardees of NADBank grants. The purpose of the grants is to help create and retain private-sector jobs in U.S. communities experiencing job dislocations attributable to changing trade patterns with Canada and Mexico due to the North American Free Trade Agreement. The subject NADBank grants are endorsed by the United States Government (“USG”), and the funds for the NADBank grants were transferred to NADBank by the USG. The collection of information in the Grant Agreement is fivefold. First, it requires each awardee to submit to NADBank an opinion of awardee counsel addressing such commercially standard matters as the due authorization, execution, delivery and enforceability of the Grant Agreement. Second, it requires each awardee to submit to NADBank quarterly reports addressing the awardee's financial and project performance. Third, it requires each awardee to submit to NADBank a final financial and performance report after the expiration of the grant. Fourth, it requires each awardee to submit annually to NADBank audited financial statements. Fifth, it imposes specific record keeping requirements. The purpose of the collection of information is to ensure that the Grant Agreement constitutes a legal binding obligation of each awardee and to monitor awardee compliance, performance, and financial soundness. The purpose of the record keeping requirements is to ensure both the effective and efficient use of the grant consistent with sound business practices, and the ability to audit the use of the grant consistent with the Grant Agreement.

Current Actions: Extension.

Type of Review: Extension.

Affected Public: State, local, and Indian tribal Governments and not-for-profit institutions.

Estimated Number of Respondents: 36.

Estimated Total Annual Responses: 216-262.

Frequency of Responses: This varies, depending on the specific reporting requirements, but consists of quarterly, annual and on occasion reporting requirements.

Estimated Total Annual Burden Hours: 828 hours.

Requests for Comments

Comments submitted in response to this notice will be summarized and/or included in the request for OMB approval. All comments will become a matter of public record. Comments are invited on: (a) Whether the collection of information is necessary, including whether the information has practical utility; (b) the accuracy of the estimate of the burden of the collection of information; (c) ways to enhance the quality, utility, and clarity of the information to be collected; (d) ways to minimize the burden of the collection of information on respondents, including through the use of automated collection techniques or other forms of information technology; and (e) estimates of capital or start-up costs and costs of operation, maintenance, and purchase of services to provide information.

Dated: February 13, 2001.
Jean Whaley,
Director, Office of Community Adjustment and Investment Programs.

[FR Doc. 01-3943 Filed 2-15-01; 8:45 am]

BILLING CODE 4810-25-P